DEPARTMENT OF HOMELAND SECURITY

U.S. Customs and Border Protection

Agency Information Collection Activities: Dominican Republic-Central America-United States Free Trade Agreement (CAFTA-DR)

AGENCY: U.S. Customs and Border Protection, Department of Homeland Security.

ACTION: 30-Day Notice and request for comments; Extension of an existing collection of information.

SUMMARY: U.S. Customs and Border Protection (CBP) of the Department of Homeland Security will be submitting the following information collection request to the Office of Management and Budget (OMB) for review and approval in accordance with the Paperwork Reduction Act: Dominican Republic-Central America-United States Free Trade Agreement (CAFTA-DR). This is a proposed extension of an information collection that was previously approved. CBP is proposing that this information collection be extended with a change to the burden hours. This document is published to obtain comments from the public and affected agencies. This proposed information collection was previously published in the Federal Register (76 FR 75893) on December 5, 2011, allowing for a 60-day comment period. One comment was received. This notice allows for an additional 30 days for public comments. This process is conducted in accordance with 5 CFR 1320.10.

DATES: Written comments should be received on or before April 6, 2012.

ADDRESSES: Interested persons are invited to submit written comments on this proposed information collection to the Office of Information and Regulatory Affairs, Office of Management and Budget. Comments should be addressed to the OMB Desk Officer for Customs and Border Protection, Department of Homeland Security, and sent via electronic mail to oira_submission@omb.eop.gov or faxed to (202) 395-5806.

FOR FURTHER INFORMATION CONTACT: Requests for additional information should be directed to Tracey Denning, U.S. Customs and Border Protection, Regulations and Rulings, Office of International Trade, 799 9th Street NW., 5th Floor, Washington, DC 20229-1177, at 202-325-0265.

SUPPLEMENTARY INFORMATION: CBP invites the general public and other Federal agencies to comment on proposed and/or continuing information collections pursuant to the Paperwork Reduction Act of 1995 (Pub. L. 104-13; 44 U.S.C. 3505(c)(2)). The comments should address: (a) Whether the collection of information is necessary for the proper performance of the functions of the agency, including whether the information shall have practical utility; (b) the accuracy of the agency's estimates of the burden of the collection of information; (c) ways to enhance the quality, utility, and clarity of the information to be collected; (d) ways to minimize the burden including the use of automated collection techniques or the use of other forms of information technology; and (e) the annual costs burden to respondents or record keepers from the collection of information (a total capital/startup costs and operations and maintenance costs). The comments that are submitted will be summarized and included in the CBP request for Office of Management and Budget (OMB) approval. All comments will become a matter of public record. In this document CBP is soliciting comments concerning the following information collection:

Title: Dominican Republic-Central America-United States Free Trade Agreement (CAFTA-DR).

OMB Number: 1651-0125.

Form Number: None.

Abstract: On August 5, 2004, the United States entered into the Dominican Republic-Central America-United States Free Trade Agreement with Costa Rica, the Dominican Republic, El Salvador, Guatemala, Honduras, and Nicaragua, (also known as CAFTA-DR.) The Agreement was approved by Congress in section 101(a) of the Dominican Republic-Central America-United States Free Trade Agreement Implementation Act, Public Law 109-53, 119 Stat. 462 (19 U.S.C. 4001 et seq.), as amended by Sec. 1634(d) of the Pension Protection Act of 2006 (Pub. L. 109-280), and provides for preferential tariff treatment of certain goods originating in one or more of the CAFTA-DR countries. It was signed into law on August 2, 2005, and the president proclaimed the implementation dates as follows: El Salvador (3/1/06), Honduras (4/1/06), Nicaragua (4/1/04), Guatemala (7/1/06), Dominican Republic (3/1/07) and Costa Rica (1/1/09).

In order to ascertain if CAFTA-DR imported goods are eligible for preferential tariff treatment, a certification and supporting documents may be requested by CBP. This collection of information is provided for by 19 CFR 10.583 through 19 CFR 10.592. Guidance on filing claims under CAFTA-DR may be found at: http://www.cbp.gov/xp/cgov/trade/trade_programs/international_agreements/free_trade/dominican_republic/.

Current Actions: CBP proposes to extend the expiration date of this information collection with a change to the burden hours. Specifically, estimated number of responses was lowered from 10,000 to 3,000 based on revised estimates by CBP. The time per response was increased from 24 minutes to 2 hours based on public comments that CBP received. There is no change to the information collected.

Type of Review: Extension (with change).

Affected Public: Businesses.

Estimated Number of Respondents: 1,000.

Estimated Number of Responses per Respondent: 3.

Estimated Number of Total Annual Responses: 3,000.

Estimated Time per Response: 2 hours.

Estimated Total Annual Burden Hours: 6,000.

Dated: March 1, 2012.
Tracey Denning,
Agency Clearance Officer, U.S. Customs and Border Protection.

[FR Doc. 2012-5460 Filed 3-6-12; 8:45 am]

BILLING CODE 9111-14-P